FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted October 1, 2018 Thru October 31, 2018
10/01/2018
20180586 | G | Penn National Gaming, Inc.; Pinnacle Entertainment, Inc.; Penn National Gaming, Inc.
20181994 | G | Francisco Partners V, L.P.; The Veritas Capital Fund IV, L.P.; Francisco Partners V, L.P.
20182044 | G | Strategic Value Special Situations Feeder Fund IV, L.P.; GenOn Energy, Inc.; Strategic Value Special Situations Feeder Fund IV, L.P.
20182045 | G | Littlejohn Fund V, L.P.; REP CBG Holdings, LLC; Littlejohn Fund V, L.P.
20182046 | G | Michael S. Dell; Dell Technologies Inc.; Michael S. Dell.
20182076 | G | Star Parent, L.P.; The Dun & Bradstreet Corporation; Star Parent, L.P.
10/02/2018
20181980 | G | Tyson 2009 Family Trust; Marfrig Global Foods S.A.; Tyson 2009 Family Trust.
20182083 | G | MDU Resources Group, Inc.; Patrick Sweetman; MDU Resources Group, Inc.
20182089 | G | AIF IX International Holdings, L.P.; Aspen Insurance Holdings Limited; AIF IX International Holdings, L.P.
10/03/2018
20182047 | G | Blackstone Energy Partners II Q L.P.; Energy Spectrum Partners VII L.P.; Blackstone Energy Partners II Q L.P.
10/04/2018
20181763 | G | Ahlstrom-Munksjo Oyj; Specialty Papers Holdings, L.P.; Ahlstrom-Munksjo Oyj.
20182039 | G | VanEck Vectors ETF Trust; OceanaGold Corporation; VanEck Vectors ETF Trust.
20182043 | G | Wright Medical Group N.V.; Cartiva, Inc.; Wright Medical Group N.V.
20182061 | G | U.S. Farming Realty Trust III, LP; Valley Fruit III, LLC; U.S. Farming Realty Trust III, LP.
10/05/2018
20181905 | G | The Energy & Minerals Group Fund IV, LP; Genesis Energy, L.P.; The Energy & Minerals Group Fund IV, LP.
20181906 | G | Tailwater Energy Fund III LP; Genesis Energy, L.P.; Tailwater Energy Fund III LP.
20182041 | G | Insignia Capital Partners, L.P.; Tobias Dengel; Insignia Capital Partners, L.P.
20182042 | G | Apax IX USD L.P.; Paycor, Inc.; Apax IX USD L.P.
20182072 | G | The Hershey Trust Company, as Trustee for Milton Hershey Sch; B&G Foods, Inc.; The Hershey Trust Company, as Trustee for Milton Hershey Sch.
20182080 | G | FS Investment Corporation; Corporate Capital Trust, Inc.; FS Investment Corporation.
20182084 | G | Altaris Health Partners IV, L.P.; Taseer Bader; Altaris Health Partners IV, L.P.
20182090 | G | Eldorado Resorts, Inc.; William Hill PLC; Eldorado Resorts, Inc.
20182092 | G | Consolidated Edison, Inc.; Sempra Energy; Consolidated Edison, Inc.
20182098 | G | Equinox Gold Corp.; New Gold Inc.; Equinox Gold Corp.
20182101 | G | OCP Trust; Outcomes Group Holdings, LLC; OCP Trust.
10/09/2018
20182062 | G | Baptist Health; Community Health Systems, Inc.; Baptist Health.
20182109 | G | Tailwind Capital Partners III, L.P.; Paul Michael Leach; Tailwind Capital Partners III, L.P.
20182110 | G | Tailwind Capital Partners III, L.P.; Jonathan Carlisle Leach; Tailwind Capital Partners III, L.P.
20182113 | G | Global Payments Inc.; LLR Equity Partners IV L.P.; Global Payments Inc.
20182114 | G | H&F Wand AIV I, L.P.; Donald R. Wood; H&F Wand AIV I, L.P.
20190001 | G | Phillip G. Ruffin; Fronton Investors Holdings, LLC; Phillip G. Ruffin.
10/10/2018
20182075 | G | Holley Parent Holdings, LLC; Lincolnshire Equity Fund IV-A, L.P.; Holley Parent Holdings, LLC.
20182086 | G | Marsh & McLennan Companies, Inc; Jardine Lloyd Thompson Group plc; Marsh & McLennan Companies, Inc.
10/12/2018
20181135 | G | CME Group Inc.; NEX Group plc; CME Group Inc.
10/15/2018
20190009 | G | Roark Capital Partners II, L.P.; Sonic Corp.; Roark Capital Partners II, L.P.
20190010 | G | Brooks Automation, Inc.; GENEWIZ Group; Brooks Automation, Inc.
20190011 | G | Western & Southern Mutual Holding Company; Nestle S.A.; Western & Southern Mutual Holding Company.
20190015 | G | The Resolute Fund IV, L.P.; Wicks Capital Partners IV, L.P.; The Resolute Fund IV, L.P.
20190032 | G | Calera Capital Partners V, L.P.; Jeffrey A. Berstein; Calera Capital Partners V, L.P.
20190034 | G | American International Group, Inc.; Arthur J. Glatfelter Agency, Inc.; American International Group, Inc.
10/16/2018
20182081 | G | Vifor Pharma Ltd.; ChemoCentryx, Inc.; Vifor Pharma Ltd.
20190037 | G | ACOF IV CWC AIV Blocked Feeder, L.P.; Unified Women's Healthcare PL; ACOF IV CWC AIV Blocked Feeder, L.P.
20190040 | G | Ulysses Parent, Inc.; American Securities Partners V, L.P.; Ulysses Parent, Inc.
20190042 | G | InnovaCare, Inc.; Jorge L. Garcia; InnovaCare, Inc.
20190046 | G | Toyota Motor Corporation; Uber Technologies, Inc.; Toyota Motor Corporation.
10/17/2018
20182085 | Y | Cerberus Institutional Partners VI, L.P.; TE Connectivity Ltd.; Cerberus Institutional Partners VI, L.P.
20190045 | G | LendingTree, Inc.; QuoteWizard.com, LLC; LendingTree, Inc.
20190050 | G | Hanwha Chemical Corporation; Hanwha General Chemical Co., Ltd.; Hanwha Chemical Corporation.
10/18/2018
20182087 | G | Michael Kors Holdings Limited; Allegra Versace Beck; Michael Kors Holdings Limited.
20190041 | G | E.P. Hamilton Trusts, LLC; KKR 2006 Fund L.P.; E.P. Hamilton Trusts, LLC.
10/19/2018
20182118 | G | AlixPartners Blocker, Inc.; ZC Holdco LLC; AlixPartners Blocker, Inc.
20190023 | G | Sensata Technologies Holding plc; Gigavac, LLC; Sensata Technologies Holding plc.
20190043 | G | Starwood Energy Infrastructure Fund III U.S. Investor, L.P.; Dominion Energy, Inc.; Starwood Energy Infrastructure Fund III U.S. Investor, L.P.
20190047 | G | Cognizant Technology Solutions Corporation; SPI Holdco, LLC; Cognizant Technology Solutions Corporation.
20190055 | G | BCEC—GFL Holdings (Guernsey) L.P.; Wrangler Aggregator Holdings, L.P.; BCEC—GFL Holdings (Guernsey) L.P.
20190056 | G | Charlesbank Equity Fund IX, Limited Partnership; VF Corporation; Charlesbank Equity Fund IX, Limited Partnership.
20190058 | G | Peabody Energy Corporation; Drummond Company, Inc.; Peabody Energy Corporation.
20190059 | G | James A. Ratcliffe; Koch Industries, Inc.; James A. Ratcliffe.
20190060 | G | Orsted A/S; D.E. Shaw Composite International Fund; Orsted A/S.
20190061 | G | Focus Financial Partners Inc.; Loring Ward Holdings Inc.; Focus Financial Partners Inc.
20190062 | G | Siemens Aktiengesellschaft; John H. Russell; Siemens Aktiengesellschaft.
20190065 | G | CenterPoint Energy, Inc.; Energy Spectrum Partners VI LP; CenterPoint Energy, Inc.
20190066 | G | Murphy Oil Corporation; MP Gulf of Mexico, LLC; Murphy Oil Corporation.
20190067 | G | Agnaten SE; Core Nutrition, LLC; Agnaten SE.
20190069 | G | H.I.G. Capital Partners V, L.P.; Vision Integrated Holdings, LLC; H.I.G. Capital Partners V, L.P.
20190070 | G | SJL PEF a to be formed Korean Limited Partnership; MPM Holdings Inc.; SJL PEF a to be formed Korean Limited Partnership.
10/22/2018
20171557 | G | Linde AG; Praxair, Inc.; Linde AG.
20190035 | G | GI Partners Fund V LP; Bayside Dolan, LLC; GI Partners Fund V LP.
20190053 | G | PWP Growth Equity Fund II LP; BB&T Corporation; PWP Growth Equity Fund II LP.
20190063 | G | Medtronic Public Limited Company; Mazor Robotics Ltd.; Medtronic Public Limited Company.
20190076 | G | Webster Capital IV, L.P.; Sundance Holding Company, LLC; Webster Capital IV, L.P.
10/23/2018
20190028 | G | Vista Global Holding Ltd.; TPG Star XO Jet, LLC; Vista Global Holding Ltd.
10/24/2018
20190022 | G | Daniel Dines; UiPath, Inc.; Daniel Dines.
20190038 | G | Finlav S.p.A.; Mars, Incorporated; Finlav S.p.A.
10/25/2018
20182105 | G | Adobe Systems Incorporated; Milestone Topco, Inc.; Adobe Systems Incorporated.
10/26/2018
20181938 | G | Bertelsmann Verwaltungsgesellschaftt mbH; CIP OCL Investmnets, LLC; Bertelsmann Verwaltungsgesellschaftt mbH.
20190030 | G | Mason Capital, L.P.; Dell Technologies Inc.; Mason Capital, L.P.
20190039 | G | Johnson & Johnson; Arrowhead Pharmaceuticals, Inc.; Johnson & Johnson.
20190068 | G | Carl C. Icahn; Dell Technologies, Inc.; Carl C. Icahn.
20190074 | G | The Blackstone Group L.P.; Clarus Ventures Holdings, LP; The Blackstone Group L.P.
20190077 | G | AF V Energy III Delaware Feeder B, L.P.; Southcross Holdings LP; AF V Energy III Delaware Feeder B, L.P.
20190081 | G | Dhiraj Rajaram; Dhiraj Rajaram; Dhiraj Rajaram.
20190082 | G | Bain Capital Fund XII, L.P.; Rocket Software, Inc.; Bain Capital Fund XII, L.P.
20190090 | G | Merck & Co. Inc.; NGM Biopharmaceuticals, Inc.; Merck & Co. Inc.
20190092 | G | Zensho Holdings Co. Ltd. (Zensho); Ryuji Ishii; Zensho Holdings Co. Ltd. (Zensho).
20190093 | G | Air Transport Services Group, Inc.; Omni Air International Holdings Inc.; Air Transport Services Group, Inc.
20190094 | G | Air Transport Services Group, Inc.; T7 Aviation Leasing Holdings, LLC; Air Transport Services Group, Inc.
20190095 | G | Air Transport Services Group, Inc.; Omni Aviation Leasing Holdings, LLC; Air Transport Services Group, Inc.
20190096 | G | CenterOak Equity Fund I, L.P.; GNAP Holdings, LLC; CenterOak Equity Fund I, L.P.
20190098 | G | Valero Energy Corporation; Green Plains Inc.; Valero Energy Corporation.
20190099 | G | Gerald W. Schwartz; Impakt Holdings, LLC; Gerald W. Schwartz.
20190100 | G | The E.W. Scripps Company; Vector Capital IV International, L.P.; The E.W. Scripps Company.
20190102 | G | Matterhorn Parent, LLC; Greencore Group plc; Matterhorn Parent, LLC.
20190110 | G | Snow Phipps III, L.P.; James M. Traube; Snow Phipps III, L.P.
20190111 | G | Snow Phipps III, L.P.; Mario Gleijeses; Snow Phipps III, L.P.
20190114 | G | Robert L. Moody, Sr.; Charles N. Sharpe trust Dated August 28,1987; Robert L. Moody, Sr.
20190118 | G | Hildred Holdings LLC; GlaxoSmithKline, plc; Hildred Holdings LLC.
10/29/2018
20190083 | G | CVC Capital Partners Asia Pacific IV L.P.; UnitedLex BPO Private Limited; CVC Capital Partners Asia Pacific IV L.P.
20190126 | G | Audax Private Equity Fund V-A, L.P.; Tailwind Capital Partners II, L.P.; Audax Private Equity Fund V-A, L.P.
20190128 | G | Macquarie Infrastructure Partners IV, L.P.; Wheelabrator Technologies, Inc.; Macquarie Infrastructure Partners IV, L.P.
10/30/2018
20190085 | G | Howard W. Lutnick; Nasdaq, Inc.; Howard W. Lutnick.
20190117 | G | SP Plus Corporation; Craig C. Mateer; SP Plus Corporation.
20190119 | G | HGGC Fund III-A, L.P.; General Atlantic Partners 100, L.P.; HGGC Fund III-A, L.P.
20190127 | G | Apollo Infra Equity US Fund, L.P. (Infra Equity); General Elecric Company; Apollo Infra Equity US Fund, L.P. (Infra Equity).
20190131 | G | IRI Parent, L.P.; New Mountain Partners III, L.P.; IRI Parent, L.P.
10/31/2018
20190075 | G | Pamlico Capital III, L.P.; National Restaurant Association; Pamlico Capital III, L.P.
20190103 | G | Precision Drilling Corporation; Trinidad Drilling Ltd.; Precision Drilling Corporation.
20190120 | G | Blackstone Energy Partners II Q L.P.; ISQ Global Infrastructure Fund II, L.P; Blackstone Energy Partners II Q L.P.
20190136 | G | Sentinel Management Holdings, LLC; LCP VIII (AIV I), L.P.; Sentinel Management Holdings, LLC.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-07326 Filed 4-11-19; 8:45 am]

BILLING CODE 6750-01-P